DEPARTMENT OF HEALTH AND HUMAN SERVICES

Administration for Children and Families

Privacy Act of 1974; System of Records

AGENCY: Office of Refugee Resettlement (ORR), Administration for Children and Families (ACF), Department of Health and Human Services (HHS).

ACTION: Notice of a new system of records.

SUMMARY: In accordance with the requirements of the Privacy Act of 1974, as amended, the Department of Health and Human Services (HHS) is establishing a new system of records to be maintained by the Office of Refugee Resettlement (ORR) within HHS' Administration for Children and Families (ACF), System No. 09-80-0323, ORR Unaccompanied Children Bureau (UCB) Child Abuse or Neglect Investigation Records and Central Registry.

DATES: In accordance with 5 U.S.C. 552a(e)(4) and (11), this system of records is effective December 4, 2024 to a 30-day period in which to comment on the routine uses, described below. Please submit any comments by January 3, 2025.

ADDRESSES: The public should address written comments on the system of records notice to Hanan Abu Lebdeh, Senior Agency Officer for Privacy, by mail at Administration for Children and Families, Mary E. Switzer Building, 330 C Street SW, Washington, DC 20201, or by email at hanan.abulebdeh@acf.hhs.gov.

FOR FURTHER INFORMATION CONTACT: General questions about the system of records may be submitted to Edward Nazarko, Technical Lead for UC Technology, Administration for Children and Families, by mail or email at 330 C Street SW, Washington, DC 20201, or edward.nazarko@acf.hhs.gov, or by telephone at (202) 839-0615.

SUPPLEMENTARY INFORMATION:

I. Background on ORR Responsibilities, Affecting New SORN 09-80-0323

Within ORR, the Unaccompanied Children Bureau (UCB) administers ORR's responsibilities for the placement, care, and services provided to unaccompanied children who are in Federal custody by reason of their immigration status. Such responsibilities are carried out pursuant to ORR's statutory and delegated authorities under section 462 of the Homeland Security Act of 2002 (HSA), 6 U.S.C. 279, section 235 of the William Wilberforce Trafficking Victims Protection Reauthorization Act of 2008 (TVPRA), 8 U.S.C. 1232, and regulations at 45 CFR parts 410 and 411. Systems of records maintained by ORR are “mixed,” in that they contain, or could contain, records pertaining to both (1) individuals who are covered by the Privacy Act and (2) individuals who are not covered by the Privacy Act. SORN 09-80-0323 includes a statement to this effect in the “Categories of Individuals” section.

The Privacy Act applies only to individuals who are U.S. citizens or non-U.S. citizens lawfully admitted for permanent residence in the United States. As a matter of discretion, ORR treats information maintained in its mixed systems of records as being subject to the protections of the Privacy Act, regardless of whether the information relates to individuals covered by the Privacy Act. This policy implements a 1975 Office of Management and Budget (OMB) recommendation to apply, as a matter of discretion, the administrative provisions of the Privacy Act to records about individuals who aren't covered by the Privacy Act when the records are maintained in mixed systems of records (referred to as the non-U.S. persons policy). See OMB Privacy Act Implementation: Guidelines and Responsibilities, 40 FR 28948, 28951 (July 9, 1975).

The Privacy Act defines a “routine use” with respect to the disclosure of a record to mean “the use of such record for a purpose which is compatible with the purpose for which it was collected.” 5 U.S.C. 552a(a)(7). Because ORR is not an immigration enforcement agency—but rather is responsible for placing unaccompanied children with vetted and approved sponsors, providing care and services to unaccompanied children who are in Federal custody by reason of their immigration status, and identifying and assessing the suitability of a potential sponsor for each child—it is incompatible with ORR's program purposes to share information in a system of records, particularly confidential mental health or behavioral information in children's case files, for immigration enforcement purposes. See H.R. Rep No. 116-450, at 185 (2020) (directing ORR to “refrain from sharing any information with immigration courts for master calendar hearings, where the court is not making any decisions about the child's custody,” and to “develop policies and protocols to ensure the confidentiality of counseling and mental health services provided to unaccompanied children, and of all related documentation, including case notes and records of therapists and other clinicians, and to incorporate these policies into the ORR policy guide . . .”); see also id. at 230 (noting the inclusion in that year's appropriations a provision “prohibiting the use of funds to share information provided by unaccompanied children during mental health or therapeutic services with the Department of Homeland Security or the Department of Justice for the purposes of immigration enforcement.”).¹ Accordingly, SORN 09-80-0323 mentions at the start of the “Routine Uses” section that disclosures for immigration enforcement purposes will not be made under routine uses, but would be made only with the subject individual's prior, written consent.

¹ See also, the Consolidated Appropriations Act, 2024, Public Law 118-364, division H, section 216 (incorporating by reference section 216 of division D of the Consolidated Appropriations Act, 2020, Pub. L. 116-93, prohibiting the Department of Homeland Security from using funds provided by the Act or any other Act, except in certain circumstances, “to place in detention, remove, refer for a decision whether to initiate removal proceedings, or initiate removal proceedings against a sponsor, potential sponsor, or member of a household of a sponsor or potential sponsor of an unaccompanied alien child (as defined in section 462(g) of the Homeland Security Act of 2002 (6 U.S.C. 279(g)) based on information shared by the Secretary of Health and Human Services).”

ORR may share relevant information in system of records 09-80-0323 for other law enforcement purposes, such as anti-trafficking investigations, child welfare investigations, or other investigations that seek to ensure that children are “protected from traffickers and other persons seeking to victimize or otherwise engage such children in criminal, harmful, or exploitative activity.” 8 U.S.C. 1232(c)(1). Accordingly, SORN 09-80-0323 includes routine uses authorizing disclosures for such law enforcement purposes.

II. Purpose for Establishing New System of Records 09-80-0323, ORR Unaccompanied Children Bureau (UCB) Child Abuse or Neglect Investigation Records and Central Registry

The purpose for establishing new system of records 09-80-0323 is to cover any Privacy Act records ORR maintains related to reports and investigations of child abuse and neglect allegations at ORR care provider facilities located in States that will not investigate such reports, as well as at ORR Emergency or Influx Facilities. Such records are also used to maintain a Central Registry of ORR care provider facility staff, contractors or sub-grantees, volunteers, or other individuals who have access to children in ORR care through contracts or grants with ORR, who are determined by ORR, pursuant to ORR regulations and policies, to have a sustained allegation of child abuse or neglect of a child while the child was in ORR custody. The Central Registry is used to vet prospective candidates to ensure individuals on the registry are not permitted to work on ORR grants or contracts or have access to unaccompanied children. Relevant records consist of personnel history, investigation records, administrative review findings, case file records of unaccompanied children, and personally identifiable information of individuals listed in the Central Registry.

III. The Privacy Act

The Privacy Act (5 U.S.C. 552a) governs the means by which the U.S. Government collects, maintains, and uses information about individuals in a system of records. A “system of records” is a group of any records under the control of a federal agency from which information about an individual is retrieved by the individual's name or other personal identifier. The Privacy Act requires each agency to publish in the Federal Register a system of records notice (SORN) identifying and describing each system of records the agency maintains, including the purposes for which the agency uses information about individuals in the system, the routine uses for which the agency discloses such information outside the agency, and how individual record subjects can exercise their rights under the Privacy Act (e.g., to determine if the system of records contains information about them).

As required by the Privacy Act at 5 U.S.C. 552a(r), HHS has sent a report of this new system of records to the Committee on Homeland Security and Governmental Affairs of the Senate, the Committee on Oversight and Accountability of the House of Representatives, and the OMB Office of Information and Regulatory Affairs.

Robin Dunn Marcos,
Deputy Assistant Secretary for Humanitarian Services, Director, Office of Refugee Resettlement.

SYSTEM NAME AND NUMBER:

ORR Unaccompanied Children Bureau (UCB) Child Abuse or Neglect Investigation Records and Central Registry, 09-80-0323.

SECURITY CLASSIFICATION:

Unclassified.

SYSTEM LOCATION:

The address of the component responsible for the system of records is the Bureau of Operations of the Office of Refugee Resettlement, Administration for Children and Families (ACF), Department of Health and Human Services (HHS), Mary E. Switzer Building, 330 C Street SW, Washington, DC 20201.

SYSTEM MANAGER(S):

Principal Deputy Director, Office of Refugee Resettlement, Administration for Children and Families, Mary E. Switzer Building, 330 C Street SW, Washington, DC 20201, UCPolicy-RegulatoryAffairs@acf.hhs.gov, (202) 401-9246.

AUTHORITY FOR MAINTENANCE OF THE SYSTEM:

6 U.S.C. 279 and 8 U.S.C. 1232; see also 45 CFR parts 410, 411, and 412.

PURPOSE(S) OF THE SYSTEM:

Records are used within HHS/ACF/ORR to investigate reports of child abuse and neglect arising at ORR care provider facilities located in States that do not investigate such reports, as well as at ORR Emergency or Influx Facilities (EIFs). Records are also used to maintain a Central Registry of ORR care provider facility staff, contractors or sub-grantees, volunteers, or other individuals who have access to children in ORR care through contracts or grants with ORR, and who are determined by ORR, pursuant to ORR regulations and policies, to have a sustained allegation of child abuse or neglect of a child while the child was in ORR custody.

CATEGORIES OF INDIVIDUALS COVERED BY THE SYSTEM:

The records are about the following categories of individuals:

• Unaccompanied children (UC), which include:

○ unaccompanied children currently and formerly in ORR's care and custody;

○ children of unaccompanied children who are housed together with their unaccompanied child parents who are in ORR custody;

○ unaccompanied children who later receive an adjustment of status or become U.S. citizens; and

○ children referred to ORR as likely to be an unaccompanied child.

• Alleged perpetrators of abuse or neglect against unaccompanied children at certain facilities specified under ORR regulations, i.e., ORR care provider facility staff, contractors or sub-grantees, volunteers, and other individuals with access to unaccompanied children in ORR custody through contracts or grants with ORR,² who are alleged to have committed abuse or neglect against an unaccompanied child while the child was in ORR custody, and with respect to whom ORR conducts or may conduct investigations to determine whether abuse or neglect occurred.

² E.g., individuals who are affiliated with legal service providers, child advocates, or other grantees or contractors engaged by ORR or the relevant care provider facility with respect to the care of unaccompanied children in ORR custody.

• Records about alleged perpetrators may also include information about additional individuals otherwise associated with an allegation, intake report, or investigation.

Unaccompanied children (UC) are children who have no lawful immigration status in the United States; have not attained 18 years of age; and with respect to whom (i) there is no parent or legal guardian in the United States; or (ii) no parent or legal guardian in the United States is available to provide care and physical custody. See 6 U.S.C. 279(g)(2).

The Privacy Act applies only to U.S. citizens and non-U.S. citizens lawfully admitted for permanent residence in the United States. As a matter of discretion, ORR will treat information that it maintains in its mixed systems of records (i.e., those that contain records about both individuals who are—and individuals who aren't—covered by the Privacy Act) as being subject to the provisions of the Privacy Act, regardless of whether the information relates to individuals covered by the Privacy Act. This implements a 1975 Office of Management and Budget (OMB) recommendation to apply, as a matter of policy, the administrative provisions of the Privacy Act to records about individuals who aren't covered by the Privacy Act when the records are maintained in mixed systems of records (referred to as the non-U.S. persons policy).

CATEGORIES OF RECORDS IN THE SYSTEM:

The records are child abuse and neglect investigation records, consisting of these categories of records and contents:

1. Personal history information about individuals alleged to have perpetrated abuse or neglect against unaccompanied children. Such records may include, as applicable, the alleged perpetrator's name; date of birth; Social Security Number (SSN); Alien Registration Number; contact information; identity of any care provider facilities, contractors, or grantees where the individual was employed or volunteered; length of employment or volunteer service; background checks; ORR investigative findings and determinations, including the evidence and documentation supporting them; and records of any subsequent administrative reviews.

2. Division of Child Protection Investigations investigative records. These records include reports providing a description of child abuse or neglect alleged to have been perpetrated against an unaccompanied child by an individual identified above, including narrative information and identifying information about the child, the alleged perpetrator, and witnesses; supporting documents and evidence related to investigative findings; and information on the alleged perpetrator's role in the alleged child abuse or neglect incident(s).

3. HHS Departmental Appeals Board administrative review findings. These records include administrative review findings of allegations of child abuse and neglect and supporting documents and evidence pertaining to the administrative review findings.

4. HHS Assistant Secretary for the Administration for Children and Families administrative review findings. These records include administrative review findings of allegations of child abuse and neglect and supporting documents and evidence pertaining to the administrative review findings.

5. Case file records of unaccompanied children (UC). These records contain information about the unaccompanied child alleged to have been abused or neglected, which may include the child's biographical information such as name, Alien Registration Number, Fingerprint Identification Number (FIN), and date and place of birth, as well as information regarding the allegations of child abuse and neglect.

6. Sustained perpetrator records. These records contain the names and other identifying information, (e.g., date of birth, SSN, and address), of individuals determined by ORR, pursuant to ORR regulations and policies, to have a sustained allegation of child abuse or neglect of a child while the child was in ORR custody, and details regarding the sustained allegations.

RECORD SOURCE CATEGORIES:

Information in the records is obtained directly from the record subjects; family members of unaccompanied children; care provider staff, contractors, and volunteers, home study providers, and post-release program providers; the ORR National Call Center; child advocates; attorneys serving unaccompanied children; Division of Child Protection Investigation reports; HHS Departmental Appeals Board decision findings; HHS Assistant Secretary for the Administration for Children and Families administrative review findings; ORR staff; hospitals and health care providers; third parties; other federal agencies; and state and local governments, agencies, and instrumentalities.

ROUTINE USES OF RECORDS MAINTAINED IN THE SYSTEM, INCLUDING CATEGORIES OF USERS AND PURPOSES OF SUCH USES:

In addition to the disclosures authorized directly in the Privacy Act at 5 U.S.C. 552a(b), these routine uses, which are published pursuant to 5 U.S.C. 552a(b)(3) and (e)(4)(D) and (11), specify circumstances under which ORR may disclose information from this system of records without the prior written consent of the record subject. A routine use is defined in the Privacy Act at 5 U.S.C. 552a(a)(7) as a disclosure of a record for a use that is compatible with the purpose for which the record was collected; accordingly, these routine uses authorize disclosures for purposes that are compatible with the purpose for which the information was collected.

Each proposed disclosure of information under these routine uses (and any proposed disclosure in response to a law enforcement request that complies with 5 U.S.C. 552a(b)(7)) will be evaluated to ensure that the disclosure is legally permissible and consistent with ORR's responsibilities under the William Wilberforce Trafficking Victims Protection Reauthorization Act of 2008, 8 U.S.C. 1232 and the Homeland Security Act, 6 U.S.C. 279. ORR is not an immigration enforcement agency and does not maintain records for immigration enforcement purposes. Accordingly, in no case shall a disclosure under a routine use (or a disclosure in response to a law enforcement request that complies with 5 U.S.C. 552a(b)(7)) include sharing information from this system of records with other federal agencies or entities (e.g., the Department of Homeland Security, the Department of Justice) for immigration enforcement purposes (such as, determining whether an individual should be removed from the United States, for immigration detention or bond determinations, or probing the truth or falsity of an individual's request for asylum or other immigration relief). Any disclosure for immigration enforcement purposes would be made only with the prior, written consent of the subject individual(s).

1. Disclosure Necessary to Conducting Investigations of Child Abuse or Neglect. Information may be disclosed to the extent necessary to investigate reports of child abuse or neglect alleged to have occurred in ORR care provider facilities located in States that do not investigate such reports, as well as at ORR Emergency or Influx Facilities (EIFs). Recipients of disclosures under this routine use may include Federal, state, and local law enforcement agencies; schools; medical providers; experts asked to do forensic or other analyses; state and local child welfare entities; state licensing entities; child advocacy centers; witnesses; the respondent(s); and organizations with which the respondent was previously employed.

2. Disclosure to Alleged Perpetrator and Their Attorney. Information regarding the allegation of abuse or neglect, the initiation of an investigation by ORR, and the disposition determined by HHS/ACF/ORR regarding the allegation of abuse and neglect; information regarding an appeal by an individual determined by HHS/ACF/ORR to have perpetrated child abuse or neglect of an unaccompanied child in ORR custody; and information regarding further administrative review of such determination may be disclosed to the alleged perpetrator and their attorney. If the alleged perpetrator appeals or requests further administrative review of determinations of child abuse and neglect, ORR may disclose information contained in supporting documents and evidence pertaining to the disposition of the allegation, as well as the final decisions on appeal and on further administrative review.

3. Disclosure to Alleged Victim, Their Attorney and Child Advocate, the Alleged Victim's Parent(s), or Legal Guardian(s), Sponsors, and Care Provider Facility. Information regarding the allegation of abuse or neglect, the initiation of an investigation by ORR, and the disposition determined by HHS/ACF/ORR regarding the report of abuse and neglect, may be disclosed to the alleged victim and to the alleged victim's attorney and child advocate, parent(s) or legal guardian(s), sponsor (as appropriate), and care provider facility. In addition, notice that an alleged perpetrator of abuse or neglect has appealed a disposition substantiating the allegation, and that such appeal will be conducted by an Administrative Law Judge (ALJ), may be disclosed to the alleged victim and the alleged victim's parent(s) or legal guardian(s) (as appropriate). A copy of the ALJ's decision may be provided to the alleged victim and to the alleged victim's attorney and child advocate (as applicable) and parent(s) or legal guardian(s) (as appropriate). If an alleged perpetrator of child abuse or neglect requests further administrative review by the Assistant Secretary of ACF of a finding against them, notice of such request as well as a copy of the final decision of the Assistant Secretary may be provided to the alleged victim and to the alleged victim's attorney and child advocate (as applicable) and parent(s) or legal guardian(s) or sponsor (as appropriate).

4. Disclosure to ORR Care Providers, Home Study Providers, and Post-Release Services Providers. Personally identifiable information of individuals listed in the Central Registry may be disclosed to ORR care provider facilities, home study providers, and post-release service providers to inform their employment and hiring decisions about a candidate seeking employment or volunteer work with that grantee or contractor that may involve direct contact with unaccompanied children.

5. Disclosure to State and Local Licensing, Child Welfare Investigative Agencies, and Federal Investigative Entities. Names and other identifying information of individuals listed in the Central Registry may be shared with state and local licensing, child welfare, and law enforcement entities, as well as with federal investigative entities, including law enforcement entities, in accordance with applicable reporting laws and policies, as well as for coordinating with other investigations that may occur concurrently with ORR's investigation.

6. Disclosure to the National Archives and Records Administration (NARA). Information may be disclosed to the National Archives and Records Administration in its records management inspections.

7. Disclosure to Congressional Office. Information may be disclosed to a congressional office from the record of an individual in response to a written inquiry from the congressional office made at the written request of the individual.

8. Disclosure to Department of Justice, or in Proceedings. Information may be disclosed to the Department of Justice, or in a proceeding before a court, adjudicative body, or other administrative body before which HHS is authorized to appear, when any of the following is a party to the proceedings or has an interest in such proceedings, and the use of such records by the Department of Justice or HHS is deemed by HHS to be relevant and necessary to the proceedings:

• HHS, or any component thereof;

• any employee of HHS in his or her official capacity;

• any employee of HHS in his or her individual capacity where the Department of Justice or HHS has agreed to represent the employee; or

• the United States, and the use of such records by the Department of Justice or HHS is arguably relevant to the proceedings.

9. Disclosure in the Event of a Security Breach Experienced by HHS. Information may be disclosed to appropriate agencies, entities, and persons when (1) HHS suspects or has confirmed that there has been a breach of the system of records; (2) HHS has determined, as a result of the suspected or confirmed breach, there is a risk of harm to individuals, the agency (including its information systems, programs, and operations), the Federal Government, or national security; and (3) the disclosure made to such agencies, entities, and persons is reasonably necessary to assist in connection with HHS' efforts to respond to the suspected or confirmed breach, or to prevent, minimize, or remedy such harm.

10. Disclosure to Assist Another Agency Experiencing a Breach. Information may be disclosed to another federal agency or federal entity, when HHS determines that information from this system of records is reasonably necessary to assist the recipient agency or entity in (1) responding to a suspected or confirmed breach, or (2) preventing, minimizing, or remedying the risk of harm to individuals, the recipient agency or entity (including its information systems, programs, and operations), the Federal Government, or national security, resulting from a suspected or confirmed breach.

POLICIES AND PRACTICES FOR STORAGE OF RECORDS:

Paper records are stored in file folders. Electronic records are stored in a database on a computer network.

POLICIES AND PRACTICES FOR RETRIEVAL OF RECORDS:

Personal identifiers used for retrieval include the subject individual's name, date of birth, SSN, and Alien Registration Number (if applicable).

POLICIES AND PRACTICES FOR RETENTION AND DISPOSAL OF RECORDS:

The records have not yet been scheduled with the National Archives and Records Administration (NARA). Until they have been scheduled with NARA and have met the applicable retention period, the records must be retained indefinitely.

ADMINISTRATIVE, TECHNICAL, AND PHYSICAL SAFEGUARDS:

Information in this system is safeguarded in accordance with applicable laws, rules, and policies. Access to the records is restricted to authorized personnel who are advised of the confidentiality of the records and the civil and criminal penalties for misuse. All record keepers are required to maintain appropriate administrative, technical, and physical safeguards to protect the records from unauthorized access. Administrative safeguards include training individuals who have access to the records how to handle them appropriately, incident response plans, mandatory security and privacy awareness training, limiting access to individuals who need to know the information, and reviewing security controls on an ongoing basis. Technical safeguards include the use of antivirus software, vulnerability patching, multi-factor authentication when required, or username and password, and storing electronic records in encrypted form, to limit system access to authorized users. Physical safeguards include storing hard copy records and computer terminals used to access electronic records in physically locked locations when not in use. Safeguards conform to the HHS Information Security Program, https://www.hhs.gov/ocio/securityprivacy/index.html.

RECORD ACCESS PROCEDURES:

Upon completion of an exemption rulemaking, this system of records will be exempt from access by subject individuals to the extent permitted by 5 U.S.C. 552a(k)(2). However, consideration will be given to any access request addressed to the System Manager, listed above. Individuals may request access to a record about them in this system of records by submitting a written access request to the System Manager. The request must include, as applicable, the individual's name, Alien Registration Number, date and place of birth, telephone number and/or email address, current address, and signature. In addition, to further verify the individual's identity, the individual must provide either a notarization of the request or a written certification that the requester is the individual who the requester claims to be and understands that the knowing and willful request for or acquisition of a record pertaining to an individual under false pretenses is a criminal offense under the Privacy Act, subject to a fine of up to $5,000. An individual may also request an accounting of disclosures that have been made of any records about that individual. Verification of identity is also required for a parent or legal guardian who makes a request on behalf of a minor (in addition to verifying the minor's identity).

CONTESTING RECORD PROCEDURES:

Upon completion of an exemption rulemaking, this system of records will be exempt from amendment to the extent permitted by 5 U.S.C. 552a(k)(2). However, consideration will be given to any amendment request addressed to the System Manager, listed above. Individuals seeking to amend a record about them in this system of records must submit a written request for amendment to the System Manager. The request must provide the same information described under “Record Access Procedures,” including identity verification information; and must specify the information that is contested, the corrective action sought, and the reason(s) for requesting the correction, and include supporting information. The right to contest records is limited to information that is factually inaccurate, incomplete, irrelevant, or untimely (obsolete). Records of an administrative proceeding that results in a final agency determination that an individual perpetrated child abuse or neglect of a child while the child was in ORR custody will not be subject to amendment, if the records establish that the individual exhausted administrative amendment remedies in that proceeding (i.e., wasn't merely offered the opportunity for amendment) as required for the individual to pursue judicial remedies.

NOTIFICATION PROCEDURES:

Upon completion of an exemption rulemaking, this system of records will be exempt from notification to the extent permitted by 5 U.S.C. 552a(k)(2). However, consideration will be given to any notification request addressed to the System Manager, listed above. Individuals seeking to determine whether this system of records contains information about them must submit a written notification request to the System Manager. The request must include the same information described under “Record Access Procedures,” including identity verification information.

EXEMPTIONS PROMULGATED FOR THE SYSTEM:

Upon completion of an exemption rulemaking, law enforcement investigatory material in this system of records will be exempt from certain requirements of the Privacy Act as follows:

• Based on 5 U.S.C. 552a(k)(2), all investigatory material compiled for law enforcement purposes will be exempt from the requirements in subsections (c)(3), (d)(1) through (4), (e)(1), (e)(4)(G) through (I), and (f) of the Privacy Act; provided, however, if maintenance of the records causes a subject individual to be denied a federal right, privilege, or benefit to or for which the individual would otherwise be entitled or eligible, the exemption will be limited to material that would reveal the identity of a source who furnished information to the Government under an express promise that the identity of the source would be held in confidence.

HISTORY:

None.

[FR Doc. 2024-28382 Filed 12-3-24; 8:45 am]

BILLING CODE 4184-45-P